DEPARTMENT OF TRANSPORTATION

National Highway Traffic Safety Administration

Denial of Motor Vehicle Defect Petition, DP02-001

AGENCY: National Highway Traffic Safety Administration (NHTSA), Department of Transportation.

ACTION: Denial of petition for a defect investigation.

SUMMARY: This notice sets forth the reasons for the denial of a petition submitted to NHTSA under 49 U.S.C. 30162, requesting that the agency commence a proceeding to determine the existence of a defect related to motor vehicle safety in certain Lexus LS 430 vehicles equipped with the Lexus Link System. After reviewing the petition and other information, NHTSA has concluded that further expenditure of the agency's investigative resources on the issues raised by the petition does not appear to be warranted. The agency accordingly has denied the petition. The petition is hereinafter identified as DP02-001.

FOR FURTHER INFORMATION CONTACT: Jonathan White, Office of Defects Investigation (ODI), NHTSA, 400 Seventh Street, SW., Washington, DC 20590. Telephone: (202) 366-5226.

SUPPLEMENTARY INFORMATION: Mr. Jorge A. Gomez of Michael Best & Friedrich LLP in Milwaukee, Wisconsin, submitted a petition by letter dated November 16, 2001, requesting NHTSA to commence a proceeding to determine the existence of a defect related to motor vehicle safety in certain Lexus model vehicles equipped with the Lexus Link System (subject vehicles). The petitioner alleges that the Lexus Link System in the model year 2001 Lexus LS 430 (VIN JTHBN30F510023113—hereafter as “petition vehicle”) leased by Sensient Technologies Corporation appeared to be activated by an automated voice message “The Lexus Link System is activated” when the ignition is turned on, but in fact was not. The petitioner further alleges that the driver of the vehicle was unable to place an emergency call to the Lexus Link Call Center after an accident, and that the Lexus Link System apparently requires manual activation by the dealership or the manufacturer.

The Lexus Link System is available as an option only on Lexus LS 430 vehicles beginning with model year 2001. This built-in, cellular-based communication system allows the vehicle occupant to communicate with the Lexus Link Call Center for safety, security, and convenience services. The Lexus Link System also is able to locate the vehicle using Global Position System (GPS) technology. The system is only operational in GPS and analog cellular coverage areas.

According to the response by Toyota Motor North America, Inc. (Toyota) to ODI's Information Request (IR) letter, there were 36,424 model year 2001-2002 Lexus LS 430 vehicles sold in the United States equipped with a factory-installed Lexus Link System. Upon new vehicle purchase, the first year of the Lexus Link service is free unless the vehicle purchaser (or lessee) declines the service. However, in order for the Lexus Link System to be initially activated when a vehicle is sold (or leased), a dealer representative must complete a Service Subscription Agreement (SSA), which must be signed by the owner (or lessee). The SSA must be completed and signed before the service or sales department can activate the Lexus Link System. Toyota's IR response indicated that there was no Lexus Link SSA found for the petition vehicle, and therefore the petition vehicle never had the service activated.

Toyota acknowledged in its response that confusion may occur due to the current Lexus Link System's voice message, since it alerts the driver to its “active” status each time the ignition is turned on, even where the service is not available. This is especially the case when someone other than the owner operates the vehicle; the driver may misunderstand the system's availability in light of the voice message. In order to correct this potential misunderstanding, and to improve customer satisfaction with the Lexus Link System function, Toyota has indicated that they will make a prospective production change and will conduct a service campaign to change the system's voice message for vehicles already sold.

Toyota also indicated that it has received 54 complaints, 64 field reports, and one lawsuit (filed by the petitioner) concerning various malfunctions and reception concerns with the Lexus Link System. Of these complaints and field reports, none alleges that there was an aggravated medical condition because emergency medical help was not forthcoming as a result of the failure to communicate with the Lexus Link Center for assistance; and only three complainants indicated that they were misled into believing that the Lexus Link System was activated when, in fact, it was never activated at the time of vehicle purchase. ODI also reviewed its database and found no record of any related complaints.

Despite the fact that the system's voice message may potentially confuse the driver as to service availability, the available data does not appear to indicate that a safety-related defect exists. A subject vehicle occupant without the Lexus Link System service available for any reason is exposed to no greater risk than those who do not have the system.

In view of the foregoing, it is unlikely that NHTSA would issue an order for the notification and remedy of the alleged defect as defined by the petitioner in the subject vehicles at the conclusion of the investigation requested in the petition. Therefore, in view of the need to allocate and prioritize NHTSA's limited resources to best accomplish the agency's safety mission, the petition is denied.

Authority: 49 U.S.C. 30162(d); delegations of authority at CFR 1.50 and 501.8.

Issued on: August 22, 2002.
Kenneth N. Weinstein,
Associate Administrator for Safety Assurance.

[FR Doc. 02-22123 Filed 8-29-02; 8:45 am]

BILLING CODE 4910-59-P